OFFICE OF THE UNITED STATES TRADE REPRESENTATIVE

Fiscal Year 2011 Tariff-Rate Quota Allocations for Raw Cane Sugar, Refined and Specialty Sugar, and Sugar-Containing Products

AGENCY: Office of the United States Trade Representative.

ACTION: Notice.

SUMMARY: The Office of the United States Trade Representative (USTR) is providing notice of country-by-country allocations of the Fiscal Year (FY) 2011 in-quota quantity of the tariff-rate quotas for imported raw cane sugar, refined and specialty sugar, and sugar-containing products.

DATES: Effective Date: October 1, 2010.

ADDRESSES: Inquiries may be mailed or delivered to Leslie O'Connor, Director of Agricultural Affairs, Office of Agricultural Affairs, Office of the United States Trade Representative, 600 17th Street, NW., Washington, DC 20508.

FOR FURTHER INFORMATION CONTACT: Leslie O'Connor, Office of Agricultural Affairs, telephone: 202-395-6127 or facsimile: 202-395-4579.

SUPPLEMENTARY INFORMATION: Pursuant to Additional U.S. Note 5 to Chapter 17 of the Harmonized Tariff Schedule of the United States (HTS), the United States maintains tariff-rate quotas (TRQs) for imports of raw cane sugar and refined sugar. Pursuant to Additional U.S. Note 8 to Chapter 17 of the HTS, the United States maintains a TRQ for imports of sugar-containing products.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On July 30, 2010, the Secretary of Agriculture (Secretary) announced the sugar program provisions for fiscal year (FY) 2011 (Oct. 1, 2010, through Sept. 30, 2011). The Secretary announced an in-quota quantity of the TRQ for raw cane sugar for FY 2011 of 1,117,195 metric tons * raw value (MTRV), which is the minimum amount to which the United States is committed under the World Trade Organization (WTO) Uruguay Round Agreements. USTR is allocating this quantity (1,117,195 MTRV) to the following countries in the amounts specified below:

Country | FY 2011 Raw cane sugar allocations (MTRV)
Argentina | 45,281
Australia | 87,402
Barbados | 7,371
Belize | 11,583
Bolivia | 8,424
Brazil | 152,691
Colombia | 25,273
Congo | 7,258
Costa Rica | 15,796
Cote d'Ivoire | 7,258
Dominican Republic | 185,335
Ecuador | 11,583
El Salvador | 27,379
Fiji | 9,477
Gabon | 7,258
Guatemala | 50,546
Guyana | 12,636
Haiti | 7,258
Honduras | 10,530
India | 8,424
Jamaica | 11,583
Madagascar | 7,258
Malawi | 10,530
Mauritius | 12,636
Mexico | 7,258
Mozambique | 13,690
Nicaragua | 22,114
Panama | 30,538
Papua New Guinea | 7,258
Paraguay | 7,258
Peru | 43,175
Philippines | 142,160
South Africa | 24,220
St. Kitts & Nevis | 7,258
Swaziland | 16,849
Taiwan | 12,636
Thailand | 14,743
Trinidad & Tobago | 7,371
Uruguay | 7,258
Zimbabwe | 12,636

These allocations are based on the countries' historical shipments to the United States. The allocations of the in-quota quantities of the raw cane sugar TRQ to countries that are net importers of sugar are conditioned on receipt of the appropriate verifications of origin, and certificates for quota eligibility must accompany imports from any country for which an allocation has been provided.

On July 30, 2010, the Secretary announced the establishment of the in-quota quantity of the FY 2011 refined sugar TRQ at 99,111 MTRV for which the sucrose content, by weight in the dry state, must have a polarimeter reading of 99.5 degrees or more. This amount includes the minimum level to which the United States is committed under the WTO Uruguay Round Agreements (22,000 MTRV of which 1,656 MTRV is reserved for specialty sugar) and an additional 77,111 MTRV for specialty sugars. USTR is allocating a total of 10,300 MTRV of refined sugar to Canada, 2,954 MTRV of refined sugar to Mexico, and 7,090 MTRV of refined sugar to be administered on a first-come, first-served basis.

Imports of all specialty sugar will be administered on a first-come, first-served basis in five tranches. The Secretary has announced that the total in-quota quantity of specialty sugar will be the 1,656 MTRV included in the WTO minimum plus an additional 77,111 MTRV. The first tranche of 1,656 MTRV will open October 20, 2010. All types of specialty sugars are eligible for entry under this tranche. The second tranche of 27,500 MTRV will open on November 10, 2010. The third, fourth, and fifth tranches of 16,537 MTRV each will open on January 12, 2011, May 18, 2011 and August 24, 2011, respectively. The second, third, fourth and fifth tranches will be reserved for organic sugar and other specialty sugars not currently produced commercially in the United States or reasonably available from domestic sources.

With respect to the in-quota quantity of 64,709 metric tons (MT) of the TRQ for imports of certain sugar-containing products maintained under Additional U.S. Note 8 to Chapter 17 of the HTS, USTR is allocating 59,250 MT to Canada. The remainder, 5,459 MT, of the in-quota quantity is available for other countries on a first-come, first-served basis.

Raw cane sugar, refined and specialty sugar and sugar-containing products volumes for FY 2011 TRQs may enter the United States as of October 1, 2010.

* Conversion factor: 1 metric ton = 1.10231125 short tons.

Ronald Kirk,
United States Trade Representative.

[FR Doc. 2010-20234 Filed 8-16-10; 8:45 am]

BILLING CODE 3190-W0-P